DEPARTMENT OF COMMERCE

International Trade Administration

[A-485-806]

Notice of Final Determination of Antidumping Duty Investigation: Certain Hot-Rolled Carbon Steel Flat Products from Romania

AGENCY: Import Administration, International Trade Administration, Department of Commerce.

SUMMARY: We determine that certain hot-rolled carbon steel flat products (HRS) from Romania are being, or are likely to be, sold in the United States at less than fair value (LTFV), as provided in section 735 of the Tariff Act of 1930, as amended. On May 3, 2001, the Department of Commerce (the Department) published the preliminary determination of its investigation of HRS from Romania, and on June 6, 2001, the Department published its amended preliminary determination. The period of investigation (POI) is April 1, 2000, through September 30, 2000. This period corresponds to the two most recent fiscal quarters prior to the month of the filing of the petition (i.e., November 2000). Based on our analysis of comments received, the final determination differs from the preliminary determination. The estimated margins of sales at LTFV is listed below in the “Suspension of Liquidation” section.

EFFECTIVE DATE: September 28, 2001.

FOR FURTHER INFORMATION CONTACT: Christopher Riker or Charles Riggle, Office 5, Group II, AD/CVD Enforcement, Import Administration, International Trade Administration, U.S. Department of Commerce, 14th Street and Constitution Avenue, NW, Washington, DC 20230; telephone: (202) 482-0186 and (202) 482-0650, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations are references to the provisions codified at 19 CFR Part 351 (2000).

Case History

On May 3, 2001, the Department published its preliminary determination of this investigation. See Notice of Preliminary Determination of Sales at Less Than Fair Value and Postponement of Final Determination: Certain Hot-Rolled Carbon Steel Flat Products from Romania, 66 FR 22194 (Preliminary Determination). On June 6, 2001, the Department amended its preliminary determination in this investigation. See Notice of Amended Preliminary Antidumping Duty Determination of Sales at Less Than Fair Value: Certain Hot-Rolled Carbon Steel Flat Products from Romania, 66 FR 30411 (Amended Preliminary Determination). After the Amended Preliminary Determination, the Department verified the information submitted on the record by the respondents. See the verification report from the verification of the Questionnaire Responses of Sidex S.A. and Sidex Trading SRL (August 2, 2001). See also, the verification reports from the verifications of the Questionnaire Responses of MEI, Metanef, Metagrimex and Sidex International, Plc (August 2, 2001). On August 17, 2001, certain petitioners ¹ and the respondents ² submitted case briefs. Furthermore, on August 24, 2001, we received rebuttal briefs from both parties as well as additional petitioners ³ in this proceeding. The department received requests for a public hearing from Bethlehem Steel Corporation, LTC Steel Company, Inc., National Steel Corporation, and United States Steel LLC as well as the respondents. The hearing was held on August 28, 2001.

¹ These petitioners are Bethlehem Steel Corporation, Inc., National Steel Corporation, and United States Steel LLC.

² The respondents are Sidex, S.A. (Sidex), Sidex Trading SRL, Sidex International Plc (collectively, the Sidex Exporters), Metalexportimport S.A. (MEI), Metanef S.A. (Metanef) and Metagrimex Business Group S.A. (Metagrimex).

³ These Petitioners are Gallatin Steel Company, IPSCO Steel Inc., Nucor Corporation, Steel Dynamics, Inc., Weirton Steel Corporation and the Independent Steelworkers Union.

Although the deadline for this determination was originally September 17, 2001, in light of the events of September 11, 2001 and the subsequent closure of the Federal Government for reasons of security, the timeframe for issuing this determination has been extended by four days.

Scope of Investigation

For purposes of this investigation, the products covered are certain hot-rolled carbon steel flat products of a rectangular shape, of a width of 0.5 inch or greater, neither clad, plated, nor coated with metal and whether or not painted, varnished, or coated with plastics or other non-metallic substances, in coils (whether or not in successively superimposed layers), regardless of thickness, and in straight length, of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of this investigation.

Specifically included within the scope are vacuum degassed, fully stabilized (commonly referred to as interstitial-free (IF) steels, high strength low alloy (HSLA) steels, and the substrate for motor lamination steels. IF steels are recognized as low carbon steels with micro-alloying levels of elements such as titanium or niobium (also commonly referred to as columbium), or both added to stabilize carbon and nitrogen elements. HSLA steels are recognized as steels with micro-alloying levels of elements such as chromium, copper, niobium, vanadium, and molybdenum. The substrate for motor lamination steels contains micro-alloying levels of elements such as silicon and aluminum.

Steel products to be included in the scope of this investigation, regardless of definitions in the Harmonized Tariff Schedule of the United States (HTSUS), are products in which: (i) iron predominates, by weight, over each of the other contained elements; (ii) the carbon content is 2 percent or less, by weight, and (iii) none of the elements listed below exceeds the quantity, by weight, respectively indicated: 1.80 percent of manganese, or 2.25 percent of silicon, or 1.00 percent of copper, or 0.50 percent of aluminum, 1.25 percent of chromium, or 0.30 percent of cobalt, or 0.40 percent of lead, or 1.25 percent of nickel, or 0.30 percent of tungsten, or 0.10 percent of molybdenum, or 0.10 percent of niobium, or 0.15 percent of vanadium, or 0.15 percent of zirconium.

All products that meet the physical and chemical description provided above are within the scope of this investigation unless otherwise excluded. The following products, by way of example, are outside or specifically excluded from the scope:

• Alloy hot-rolled steel products in which at least one of the chemical elements exceeds those listed above (including, e.g., American Society for Testing and Materials (ASTM) specifications A543, A387, A514, A517, A506). Society of Automotive Engineers (SAE)/American Iron & Steel Institute (AISI) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this investigation is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this investigation, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.10.90.00, 7226.91.50.00, 7226.91.70.00, 7226.91.80.00, and 7226.99.00.00. Subject merchandise may also enter under 7210.70.30.00, 7210.90.90.00, 7211.14.00.30, 7212.40.10.00, 7212.40.50.00, and 7212.50.00.00.

Although the HTSUS subheadings are provided for convenience and U.S. Customs purposes, the written description of the merchandise subject to this proceeding is dispositive.

Non-market Economy Country

The Department has treated Romania as a non-market-economy (NME) country in all past antidumping proceedings (see, e.g., Notice of Final Determination of Sales at Less Than Fair Value: Certain Small Diameter Carbon and Alloy Seamless Standard, Line and Pressure Pipe from Romania, 65 FR 39125 (June 23, 2000)). A designation as a NME remains in effect until it is revoked by the Department (see section 771(18)(C) of the Act). The respondents in this investigation have not requested a revocation of Romania's NME status and no further information has been provided that would lead to such a revocation. Therefore, we have continued to treat Romania as a NME in this investigation.

When the Department is investigating imports from a NME, section 773(c)(1) of the Act directs us to base normal value (NV) on the NME producer's factors of production, valued to the extent possible in a comparable market economy that is a significant producer of comparable merchandise. The sources of individual factor prices are discussed under the Normal Value section, below.

Analysis of Comments Received

All issues raised in the case and rebuttal briefs by parties to this review are addressed in the “Issues and Decision Memorandum” (Decision Memorandum) from Bernard T. Carreau, Deputy Assistant Secretary, Import Administration, to Faryar Shirzad, Assistant Secretary for Import Administration, dated September 21, 2001, which is hereby adopted by this notice.

A list of the issues which parties have raised and to which we have responded, all of which are in the Decision Memorandum, is attached to this notice as an Appendix. Parties can find a complete discussion of all issues raised in this investigation and the corresponding recommendations in this public memorandum, which is on file in the Central Records Unit (CRU), room B-099 of the main Commerce Department building.

In addition, a complete version of the Decision Memorandum can be accessed directly on the Internet at http://ia.ita.doc.gov/. The paper copy and electronic version of the Decision Memorandum are identical in content.

Separate Rates

It is the Department's policy to assign a single rate to all exporters of subject merchandise subject to investigation in a NME country unless an exporter can demonstrate that it is sufficiently independent so as to be entitled to a separate rate. For purposes of this “separate rates” inquiry, the Department analyzes each exporting entity under the test established in the Final Determination of Sales at Less Than Fair Value: Sparklers from the People's Republic of China, 56 FR 20588 (May 6, 1991) (Sparklers), as amplified in Final Determination of Sales at Less Than Fair Value: Silicon Carbide from the People's Republic of China, 59 FR 22585 (May 2, 1994) (Silicon Carbide). Under this test, exporters in NME countries are entitled to separate, company-specific margins when they can demonstrate an absence of government control over exports, both in law (de jure) and in fact (de facto).

In our preliminary determination, we found, according to the criteria identified in Sparklers and Silicon Carbide, that the Sidex Exporters, MEI, Metanef and Metagrimex had met the criteria for the application of separate antidumping duty rates. For a complete discussion of the Department's determination that the Sidex Exporters, MEI, Metanef and Metagrimex are entitled to separate rates, see the April 23, 2001, memoranda, Assignment of Separate Rate for Sidex Trading SRL and Sidex International, Plc in the Antidumping Duty Investigation of Certain Hot-rolled Carbon Steel Flat Products from Romania, as well as Assignment of Separate Rate for Metalexportimport, S.A. (MEI), Metanef, S.A. (Metanef) and Metagrimex Business Group, S.A. (Metagrimex) in the Antidumping Duty Investigation of Certain Hot-rolled Carbon Steel Flat Products from Romania, which are on file in the CRU. The Petitioners argued in their case briefs that the Department should reconsider granting separate rates for the Sidex Exporters, MEI, Metanef and Metagrimex. For a more detailed analysis of why we continue to find that the responding exporting companies in this investigation should be assigned individual dumping margins, see the Decision Memorandum.

Romania-Wide Rate

As in all NME cases, the Department implements a policy whereby there is a rebuttable presumption that all exporters comprise a single entity under common government control, the “NME entity.” Therefore, the Department assigns a single NME rate to the NME entity, unless an exporter can demonstrate eligibility for a separate rate. If all exporters, accounting for all exports of subject merchandise to the United States during the POI, demonstrate eligibility for a separate rate, the Department will calculate an “all others” rate as it does in market economy cases. However, if record evidence suggests that certain exporters have not responded to at least the Department's initial shipment information query, the Department will rely on its presumption that there is an additional entity under government control and will assign a country-wide rate to the NME entity. Such is the situation in this investigation. See Preliminary Determination, see also Decision Memorandum. Specifically, we have not been unable to confirm through a comparison of the reported data to public sources that no other company exported HRS from Romania to the United States during the POI.

Changes Since the Amended Preliminary Determination

Based on our findings at verification, and analysis of comments received, we have made adjustments to the calculation methodology in calculating the final dumping margin in this proceeding. These adjustments are summarized below:

1. We revised the surrogate values assigned to all of our inputs using 1999 United Nations Commodity Trade Statistics (UNCTS) data, which is more contemporaneous than the 1998 data used in our preliminary determination. For further details see Comment 1 in the Decision Memorandum.

2. Through our analysis of documents at verification, we determined that Sidex neglected to report a portion of its labor hours for the flat-rolling mill that should have been included in its original calculations. Based on our analysis of the information on the record, we increased the total labor hours in order to account for these unreported activities for not only the flat-rolling mill, but all of the production shops. For further details see Comment 2 in the Decision Memorandum.

3. We increased the reported amount of electricity consumed by the respondents to account for missing data discovered at verification. For further details see Comment 3 in the Decision Memorandum.

4. We revised the values assigned to limestone, sulphuric acid, ferromanganese, iron slag, coke, caustic soda, raw tar and manganese ore to more contemporaneous and non-aberrational values. For further details see Comments 6, 7, 10-13 and 16 in the Decision Memorandum.

5. We have revised the value assigned to iron pellets as we have determined that iron pellets are similar enough to iron lumps that they should be assigned the same value. For further details see Comment 9 in the Decision Memorandum.

6. We have revised the value assigned to coal powder, using an actual purchase price. For further details see Comment 14 in the Decision Memorandum.

7. We determined at verification that Sidex provides coke gas and furnace gas to an on-site electrical facility in exchange for de-mineralized water. Therefore, we have not assigned a cost to the de-mineralized water, nor have we assigned a credit to the sales of coke gas and furnace gas. For further details see Comments 15 and 18 in the Decision Memorandum.

8. We have revised our freight calculations for several sales made by MEI and Metanef where a cost was calculated for sales whose terms of delivery were FOB Galati. For the final determination we have not calculated a freight cost for these observation numbers. For further details see Comments 21 and 22 in the Decision Memorandum.

9. We have revised certain surrogate freight distances, assigned to imports of raw materials by the producer, in our normal value to reflect a surrogate freight cost using the shorter of the distance from the seaport to the factory or the reported distance from the domestic supplier to the factory pursuant to the Court of Appeals for the Federal Circuit's decision in Sigma Corp. v. United States, 117 F. 3d 1401, 1408-11 (Fed. Cir. 1997).

10. We have used a surrogate financial ratio for overhead that includes both non-depreciation and depreciation for our final determination. For further details see Comment 19 in the Decision Memorandum.

Suspension of Liquidation

Pursuant to section 735(c)(1)(B) of the Act, we are instructing the Customs Service to continue to suspend liquidation of all entries of HRS from Romania that are entered, or withdrawn from warehouse, for consumption on or after May 3, 2001, the date of publication of the Preliminary Determination. The Customs Service shall continue to require a cash deposit or the posting of a bond based on the estimated weighted-average dumping margins shown below. The suspension of liquidation instructions will remain in effect until further notice.

We determine that the following weighted-average dumping margins exist for the period April 1, 2000 through September 30, 2000: —

Manufacturer/exporter | Margin (percent)
Sidex Trading, SRL & Sidex International, Plc | 16.88
Metanef, S.A | 22.48
Metagrimex, S.A | 17.14
Metalexportimport, S.A | 18.63
Romania-Wide | 88.62

The Romania-wide rate applies to all entries of the subject merchandise except for entries from exporters/producers that are identified individually above.

ITC Notification

In accordance with section 735(d) of the Act, we have notified the International Trade Commission (ITC) of our determination. As our final determination is affirmative, the ITC will determine, within 45 days, whether these imports are causing material injury, or threat of material injury, to an industry in the United States. If the ITC determines that material injury or threat of injury does not exist, the proceeding will be terminated and all securities posted will be refunded or canceled. If the ITC determines that such injury does exist, the Department will issue an antidumping duty order directing Customs officials to assess antidumping duties on all imports of the subject merchandise entered, or withdrawn from warehouse, for consumption on or after the effective date of the suspension of liquidation.

This determination is issued and published in accordance with sections 735(d) and 777(i)(1) of the Act.

Date: September 231, 2001.
Faryar Shirzad,
Assistant Secretary for Import Administration.

Appendix

List of Comments in the Issues and Decision Memorandum

I. Issues Specific to SIDEX

Comment 1: Surrogate Statistics

Comment 2: Labor Hours

Comment 3: Electricity

Comment 4: Acuterm and Quartz Sand

Comment 5: Water

Comment 6: Limestone

Comment 7: Sulphuric Acid

Comment 8: Ferromanganese

Comment 9: Iron Lumps and Pellets

Comment 10: Iron Slag

Comment 11: Coke

Comment 12: Caustic Soda

Comment 13: Raw Tar

Comment 14: Coal Powder

Comment 15: Demineralized Water

Comment 16: Manganese Ore

Comment 17: Methane

Comment 18: Furnace and Coke Gas

Comment 19: Overhead, SG&A, Interest and Profit Ratios

I. Issues Specific TO MEI

Comment 20: Export Licenses

Comment 21: Freight Terms

II. issues Specific to METANEF

Comment 22: Freight Terms

III. General Issues

Comment 23: Romania-Wide Rate

Comment 24: Separate Rates for Metanef, MEI, and Metagrimex

Comment 25: Brokerage and Freight

Comment 26: Barter Transactions

Comment 27: Expenses Incurred from Imported Inputs from Market Economy Suppliers

[FR Doc. 01-24412 Filed 9-27-01; 8:45 am]

BILLING CODE 3510-DS-P